NATIONAL ARCHIVES AND RECORDS ADMINISTRATION

36 CFR Part 1258

RIN 3095-AA87

NARA Reproduction Fee Schedule

AGENCY: National Archives and Records Administration (NARA).

ACTION: Final rule.

SUMMARY: NARA is revising its schedule of fees for reproduction of records and other materials in the custody of the Archivist of the United States. This rule covers reproduction of Federal records created by other agencies that are in the National Archives of the United States, donated historical materials, Presidential records, Nixon Presidential historical materials, certain Federal agency records in NARA Federal records centers, and records filed with the Office of the Federal Register. The fees are being changed to reflect current costs of providing the reproductions. This rule will affect members of the public and Federal agencies who order reproductions from NARA.

EFFECTIVE DATE: November 13, 2000.

FOR FURTHER INFORMATION CONTACT: Nancy Allard on (301)713-7360, ext. 226.

SUPPLEMENTARY INFORMATION: The proposed rule was published in the April 25, 2000, Federal Register (65 FR 24164) for a 60-day public comment period. NARA announced the availability of the proposed rule widely and posted notices in its research rooms nationwide. A copy of the proposed rule was also posted on the NARA web site for review.

Overview

NARA received over 285 timely comments by mail, fax, and email to the Comments, Inquire, and OIG Hotline mailboxes. We considered multiple comments from a single respondent (e.g., to more than one NARA email address or to provide additional examples of concerns with specific copiers) as a single timely comment. We also received a number of Congressional inquiries on behalf of constituents and have considered those inquiries also.

Most of the comments were from individuals, a number of whom identified themselves as genealogists. We received comments from 9 genealogical organizations, ranging in scope from a local genealogy club in California and a subordinate Grange unit in Wisconsin to the Ohio Society of the War of 1812 to the joint Federation of Genealogical Societies/National Genealogy Society Records Preservation and Access Committee. We received comments from several individuals who identified themselves as professional/academic historians.

In response to the comments, we have modified the fees and process for ordering pension files and clarified the effective date of the final rule. In addition, we have removed the fee for diazo microfiche reproductions (§ 1258.12(d) in the proposed rule). There is no longer a need to include this item in the fee schedule because we have completed conversion of all of the microfiche previously covered by the fee schedule to products sold through NARA's microform publication program. The fee for published microfiche, unchanged since 1996, is $4.25 per fiche. All other provisions in the proposed Part 1258, including the fees for other products specified in § 1258.12, are unchanged in this final rule. Following is a discussion of the major issues addressed in the comments.

Magnitude of Increases for Fixed Fee Orders

Comments: A large number of respondents commented that the fee increases for fixed fee (NATF 80 series) orders would put them beyond their reach and asked NARA to reconsider the proposal. A recurring theme throughout these comments was that many genealogists are retired and on fixed incomes. A number of respondents voiced suspicion that NARA was intentionally discouraging requests to reduce its workload. Still others questioned why NARA was raising prices when the Federal Government was reporting a budget surplus. The Records Preservation and Access Committee, which sought input from the genealogical community before developing their position, reported that that the comments to the Committee were “overwhelmingly negative” and that the $40 fee for pension files was “almost universally condemned.” The Committee's experience also reflects the comments NARA received directly.

Only a handful of respondents supported the proposed fixed fee order changes. The Records Preservation and Access Committee and one individual reluctantly supported the revised fees because they are based on actual costs. Several other individuals stated their full support for the fees. Four respondents in addition to the Records Preservation and Access Committee said that they could “live with” the proposed $17-$17.75 fee for non-pension file fixed fee orders.

NARA response: The current fees for fixed fee orders were last changed in 1991. Since that time, there have been increases in salaries, equipment costs, and postage, as well as changes in how the orders are handled that account for the additional costs. The order fulfillment system, required as part of a mandatory upgrade to our Trust Fund accounting system to meet Government financial accounting requirements and to make the system Y2K compliant, and use of a contractor to copy the records are major differences in how orders are handled.

We regret the need to increase fees for providing copies of NARA records using the fixed fee order forms and we recognize that the amount of the increase may cause a hardship for some of our customers. A major component of NARA's mission is to provide continuing access to our archival holdings, and we do not want to diminish access provided through reproduction of the records. To provide such access requires resources. As we explained in the preamble to the proposed rule, NARA does not receive appropriations to provide copies of our holdings for the public. The cost of searching for files that are not found and providing negative responses, however, is funded by appropriations. Customers who receive copies are not also absorbing the cost for negative searches and customers who receive negative responses are not charged for NARA's effort.

NARA fees for reproduction of records in 36 CFR Part 1258, including these fixed fee orders, are set under the Archivist's authority in 44 U.S.C. 2116(c). That statute requires that, to the extent possible, NARA recover the actual cost of making copies of records and other materials transferred to the custody of the Archivist of the United States. The actual cost of making copies of records in response to pension fixed-fee orders includes materials and equipment, order handling, shipping, and the labor costs associated with making the reproduction. A brief description of these cost elements for a copy of a full pension file follows.

Cost element | Description
Materials ($0.08 per page copied from microfilm; $0.02 per page copied from paper) | —Paper. —Toner (microfilm reader-printer; included in rental costs copied for fixed-fee paper-to-paper copiers).
Equipment ($0.027 per page copied from microfilm; $0.025 per page copied from paper) | —Equipment rental or depreciation (over 5 years). —Service maintenance agreement/repairs.
Order handling costs ($5.00 per pension file order) | —Proportional share of the cost of the system to track orders from receipt through payment to shipping and close out. —Costs associated with receiving and handling payments. —Proportional share of the Trust Fund overhead costs to manage the National Archives Trust Fund (e.g., policy, oversight, procurement functions).
Shipping ($3.15 per full pension file order) | —Postage for bill notice and mailing reproductions. —Envelopes for mailing.
Labor cost—NARA staff ($1.91 per pension file order) | —Batch incoming requests for processing (we receive approximately 1,000 pension requests per week). —Search and pull paper records from their boxes; for pension files, there is an additional step of searching the pension index). —Take paper records to the on-site contractor for reproduction. —Reshelve paper records after copying. —Supervisory oversight of the above processes.
Labor costs—contractor ($24.00 per full pension file order) | —Enter orders into the workflow system. —Making copies of paper files. —For records Revolutionary War pension records (which are on microfiche): (1) Locating and mounting the correct microfiche on the reader printer, (2) Locating the correct frame(s) on the fiche, making the copies, and removing the microfiche from the carrier, and (3) Returning the microfiche to the storage cabinet. —For all orders, packaging the orders for mailing.

Pension Files: Size of Files

Comments: We received a number of comments questioning our statement that the average pension file is approximately 105 pages. While some of the respondents may have confused selected pension files or military service files which they had received with full pension files, many researchers who had ordered a number of complete pension files reported their experience that the file size was generally 40-50 pages or less. The Sons of Union Veterans of the Civil War stated that none of their members had received a pension file close to 102 pages.

NARA response: Because of the number of comments on the size of files and the level of concern that a requester would be charged $40 for 20 or fewer pages, NARA conducted a new 2-week sample of all NATF 80 pension and bounty land warrant orders copied by the on-site contractor between June 16 and June 29, 2000. The 2-week sample contained 1,338 files, and all pages in each file were counted regardless of whether the order was for the selected file or remaining documents. Each side that had writing on it was counted. If the back was blank, it was not counted. For this sample, we collected additional information on the period of service for which the pension was sought to allow us to analyze the orders in greater depth.

Our analysis showed that the size of the pension file was affected by the service time period. The Civil War and post-Civil War period had the largest number of orders and the greatest variation in size of the file. Eighty-seven percent of the orders in the sample were for Civil War or post-Civil War pensions; the size of these files ranged from a low of 5 pages to 546 pages. Five percent of the files from the Civil War/post-Civil War period (60 files) had more than 200 pages. In contrast, pre-Civil War pension files accounted for only 2 percent of the total orders in the sample period (25 files) and ranged from 4 pages to 111 pages. Eleven percent of the orders in the sample were for Revolutionary War records, which are the only pension files serviced on microfilm. The size of these files ranged from a low of 5 pages to a maximum of 184 pages.

Because the new sample is larger and more current than the sample on which the proposed $40 fee for complete pension files was based, we have used the new sample as the basis for the revisions to the fees for pension file orders discussed later in this SUPPLEMENTARY INFORMATION. We have calculated the revised fees based on a weighted composite order that includes records from all three eras. The weighting omits the highest and lowest 10 percent of the orders in the samples to reduce the distortion in pricing that their inclusion would cause. For paper records (89 percent of the total files), we used an order size of 66 pages. For microfilm records (11 percent of the total files), we used an order size of 26 pages.

Pension Files: All Pages in the File

Comments: A relatively small number of respondents strongly endorsed the proposal to copy all pages in a pension file, and several respondents expressed surprise that more people did not realize they were not receiving the entire file. The proposed fee for the full file orders may have been the reason more researchers did not support the proposal, but 13 respondents provided other specific reasons why a partial file at a lower fee is desirable. Several comments stated that a full file is only useful if it is for the right person. These respondents noted that it is not always possible to be sure of the identification of the veteran when placing the order. Another reason raised in five comments was that the researcher might be seeking only basic information. One respondent had ordered 43 files in the past and only needed the full pension file 3 or 4 times. A professional genealogist, who endorsed offering full files, also noted that many people use the pension file only as a supplementary source for information on the veteran and his family. Several respondents expressed their views that the full pension file contains duplicative or unimportant materials.

Eighteen respondents recommended that NARA offer an option for full or partial pension files. Some of these respondents suggested a variety of alternatives including charging more for expedited service, raising fees only for customers who are not veterans, charging a flat fee for a set number of pages plus an additional charge per page or increment of 10 pages, and establishing a multi-tiered fee structure based on whether records are available on microfilm through other sources such as the Family History Centers or if NARA is the only source.

NARA response: We considered the alternative pricing structures suggested in the comments before deciding on the approach to take. It is not feasible to retain the current $10 fee for any pension file order due to the cost increases described earlier in the SUPPLEMENTARY INFORMATION.

We are aware that copies of vital records (birth, death, and marriage records) are available on an expedited basis from some states for an extra fee. We currently allow expedited service only for still pictures and motion picture and video recordings among the holdings of a Presidential library and only if staff is available to handle the order or the NARA contractor making the reproduction can provide the service. Given that the standard fee cannot stay at $10 as the respondent assumed, we do not believe that there would be sufficient demand for expedited handling of fixed fee orders to warrant setting up special handling procedures to accommodate it.

We also find no basis for charging veterans less than other citizens for the reproduction of pension files that are not related to their own service. Department of Defense regulations govern furnishing copies of military service records at the National Personnel Records Center to veterans and their immediate family members because those records are still in the legal custody of the Department. The pension files ordered through the NATF Form 85 are in NARA legal custody in the National Archives of the United States.

We carefully evaluated the proposals for charging a flat search/order handling fee plus a copying fee per page or per increment of pages. These proposals would add to the staff handling costs. The pricing information on the number of pages or increments would have to be entered in the order processing/fulfillment system for each order; the staff would have to count the number of pages and send a price quote to the customer; and, when a response is received, retrieve the file again for copying. The proposals would also increase the overall response time.

Fixed Fee Orders: Alternatives for Reducing Costs

Comments: Some respondents suggested ways that NARA might reduce its costs to provide copies of military service and pension files. A number of respondents suggested that NARA put key genealogical records on the Internet. One respondent suggested that NARA donate digital copies to RootsWeb where the public could download copies. While one respondent acknowledged that it would be costly for NARA to digitize the records, most respondents did not address the cost to scan the records or maintain them on the NARA web site. Several encouraged NARA to use volunteers to assist in the process or to assist with scanning or microfilming the records. One person recommended that people rent the Revolutionary War microfilm from a Family History Center and make their own copies. Three respondents urged NARA to have the Church of Jesus Christ of Latter Day Saints microfilm or digitize the records and make the records available through their Family History Centers. Another three respondents suggested privatizing the service. One person suggested charging a $5 research fee for all searches instead of raising the reproduction fee.

NARA response: The suggestions relating to microfilming or scanning the records are not solutions that can be implemented quickly to avoid raising the fees for copies of military service and pension files. We have worked with both volunteers and private sector partners on other microfilming and digitizing projects, and plan to continue this effort. Nevertheless, scanning or microfilming the records is a very labor-intensive, long-term effort, even if volunteers or private-sector partners were to do part or all of the work. The records that NARA reproduces in response to researcher requests are different for each requester. NARA has 288 million pages of military pension files that currently exist only in paper and we would need significant resources to convert these holdings to electronic form.

In response to the suggestion that individuals rent the Revolutionary War microfilm and make their own copies, we note that NARA microfilm publications containing records of genealogical interest, including many military service records as well as Revolutionary War pension records, are widely available. NARA regional records facilities and many large libraries and genealogical societies have all or some of the microfilm sets. In addition, rolls of microfilm are available to libraries and individuals through NARA's Microfilm Rental Program (see http://www.nara.gov/publications/microfilm/micrent.html).

The other suggestions would not allow NARA to maintain the $10 fee. NARA is very fortunate to have a large corps of volunteers who provide valuable services to help us carry out our mission nationwide. We could use volunteers to assist with aspects of the fixed-fee order process at the National Archives Building in Washington, DC, but it is not possible to find enough volunteers to replace NARA staff and contractors to lower the costs to $10 per order. As noted earlier in this preamble, we do use a contractor in providing the service but privatizing the service would not reduce the cost. It is not appropriate to charge $5 for each negative research request in order to offset the cost of positive responses. As we stated previously, we do not charge a fee when no file is found.

Fixed Fee Orders: Revised Pension File Prices

After evaluating all of the comments on the pension file proposal, we have decided to offer researchers a choice between reproduction of the complete pension file and a pension documents packet of up to 10 pages. Providing the choice of the two reproduction packages will allow NARA to measure the relative demand for each reproduction package. We still believe that providing the complete pension file is the most appropriate way to provide access to these records when researchers are unable to view the records on microfilm or in person, but we need to further evaluate how we can best provide this service. In a future proposed rule we will seek public comment on alternative pricing structures.

For now, we are willing to continue to provide an option for researchers to obtain certain limited information that is contained in most pension files if they do not wish to order a complete file or cannot afford the full file. The pension documents package will not contain the same range of documents previously provided in the $10 fee. It will contain, to the extent that these documents are present in the file, eight documents that contain genealogical information about the pension applicant. Not all of these documents will be found in every file. The package will include any of the following items that are in the file:

1. Declaration of pension

2. Declaration of widow's pension

3. Adjutant General statements of service

4. Questionnaires completed by applicants (numbered forms)

5. “Pension Dropped” cards

6. Marriage certificates

7. Death certificates

8. Discharge certificate

We will not provide a count of the remaining pages; if a researcher wishes to obtain a full pension file after reviewing the selected package, he or she will need to order the complete file. If the entire pension file is no more than the 10 pages, we will mark the order “Complete file provided.” Based on our sample, this should occur in no more than 2 percent of the orders. So that customers are not misled that the selected documents constitute the entire file, we will include with the copies an explanation that the entire file contains more information.

The fee for a complete pension file under the new fee schedule is $37.00. The fee for the selected documents packet is $14.75. The new NATF Form 85 will be used to order either a complete pension file or a selected pension documents packet or a bounty land warrant file. As we stated in the proposed rule, the bounty land warrant file should be ordered only when there is no pension file.

Researchers who review military service files and pension files in person at the National Archives Building will continue to be able to copy whatever selected pages they want from the file at a self-service copier.

Pricing Structure for Other Fixed Fee Orders

We specifically invited public comment on our planned pricing structure for separate fees for each of the different types of fixed fee orders versus a blended fee that applied to all fixed fee orders except pension files. We received only one comment on this issue, which supported the blended fee. Because customers did not express a strong preference, we have decided to retain the separate fees for each type of fixed fee order.

Self-Service Copying: Cost of Copies

Comments: Several respondents commented directly on the proposed nickel increase in the fee for self-service copying. A number of respondents compared the cost of NARA's self-service copies to lower prices available at local copy centers or libraries.

NARA response: Comparing the fees for NARA's nationwide self-service copying program with those charged by a commercial copy center is misleading. The fees for self-service copying of archival records include more than just the cost of the paper, toner, and copier equipment. In addition to these two components, NARA costs that must be recovered include staff oversight of self-service copying and Trust Fund overhead/cashier costs.

NARA self-service copiers use primarily legal or ledger size paper at a cost of approximately 2 cents per page for paper and toner. These costs reflect the quantity discounts that we are able to obtain based on our volume. Our equipment costs average almost 4 cents per page for paper-to-paper copiers and almost 19 cents per page for microfilm-to-paper copiers. These higher equipment costs result from the variation in volume from facility to facility and our commitment to provide self-service copying in all of our facilities. Although very high-volume self-service copiers in the Washington, DC, area, account for 79.6 percent of the 4.9 million self-service electrostatic copies made, our 10 Presidential libraries and 13 regional archives each have at least one paper-to-paper copier available. All regional archives and several libraries have at least one microfilm reader-printer. The costs of copier equipment in all of these field facilities must be shared across fewer copies per facility. (The self-service copier costs discussed here reflect costs for 64 paper-to-paper copiers and 46 microfilm reader-printers used in self-service operations nationwide. The materials and equipment costs cited earlier for fixed-fee pension orders are for the specific copiers used in the fixed-fee operation.)

NARA is one of the few archives in the world that permits large-scale self-service copying. We are able to offer this service because of the staff oversight of the copying operation. Before a researcher is allowed to copy paper records, the records must be reviewed by a NARA staff member in the research room to ensure that none of the records are fragile or otherwise unsuitable for self-service copying, and that declassified records are properly marked with the declassification information. These staff costs and the staff time spent maintaining the equipment and supplies are also recovered through the fees for self-service copies. In the Washington, DC, area, our Trust Fund cashier staff process customer payments and service the debit card dispensers. In the field, archival staff handle customer payments. Additionally, a proportional share of the Trust Fund overhead, described previously, is allocated to self-service copying.

Self-Service Copying: Service Issues

Comments: Most of the comments on self-service copying addressed the poor quality of copies and problems with self-service equipment, particularly in the Washington, DC, area. One respondent recommended that NARA install self-service oversize copiers at its College Park, MD and regional facilities.

NARA response: We are very aware that the current copiers at the Washington area facilities have their drawbacks. Beginning two years ago, we installed digital copiers for self-service copying. While these have worked very well in enhancing poor quality microfilm, they have proved to be too sensitive to variations in poor quality paper originals. To address the problems with paper to paper copiers, we are in the process of replacing digital copiers in the Washington area with more durable analog copiers that are easier to maintain. We are also replacing older microfilm reader-printers and the book scanner in FY 2001. The newer versions of these machines take advantage of the simplified process of printing to a digital laser printer, and should prove less prone to mechanical breakdowns. We are in the process of upgrading the microfilm reader-printers in all of our regional archives, replacing the older reader-printers with digital equipment.

We carefully considered the suggestion to provide an oversize copier at the College Park facility and the field facilities, but concluded that oversize copiers are not appropriate for self-service use. In addition to space and low demand considerations in the regional research rooms, our archival reference and preservation staff had serious concerns that oversize maps and other large documents can be more vulnerable to damage during copying. Moreover, these copiers are more complicated to use and, if something should break, more difficult to repair.

Effective Date

We received several questions about what fees would apply to orders that had been received but not filled by NARA when the new fee schedule is effective. We have clarified the effective date in § 1258.16 to specify that the new fees will apply to orders that are received on or after the effective date of the final rule, and not to work that is in process.

Paperwork Reduction Act

NATF Forms 81 through 86 in this proposed rule have been approved by the Office of Management and Budget under the Paperwork Reduction Act and bear current approval numbers on the face of the forms.

This rule is a significant regulatory action for purposes of Executive Order 12866 of September 30, 1993, and has been reviewed by the Office of Management and Budget. This rule does not have federalism implications. As required by the Regulatory Flexibility Act, it is hereby certified that this rule will not have a significant impact on a substantial number of small entities because the affected public is primarily individuals. This rule is not a major rule as defined in 5 U.S.C. Chapter 8, Congressional Review of Agency Rulemaking.

List of Subjects in 36 CFR Part 1258

Archives and records.

For the reasons set forth in the preamble, NARA revises part 1258 of title 36, Code of Federal Regulations, to read as follows:

PART 1258—FEES

Sec.
1258.1 What is the authority for this part?
1258.2 What does the NARA reproduction fee schedule cover?
1258.4 What reproductions are not covered by the NARA fee schedule?
1258.6 When does NARA provide reproductions without charge?
1258.8 Who pays to have a copy negative made?
1258.10 What is NARA's mail order policy?
1258.12 NARA reproduction fee schedule.
1258.14 What is NARA's payment policy?
1258.16 Effective date.

Authority: 44 U.S.C. 2116(c) and 2307.

§ 1258.1 What is the authority for this part?

(a) 44 U.S.C. 2116(c) authorizes NARA to charge a fee for making or authenticating copies or reproductions of materials transferred to the Archivist's custody. This fee is to be “fixed by the Archivist at a level which will recover, so far as practicable, all elements of such costs and may, in the Archivist's discretion, include increments for the estimated replacement costs of equipment.” The fees collected for reproductions are to be paid into and expended as part of the National Archives Trust Fund.

(b) 44 U.S.C. 2307 authorizes the Archivist of the United States, as Chairman of the National Archives Trust Fund Board, to sell copies of microfilm publications at a price that will cover their cost, plus 10 percent.

§ 1258.2 What does the NARA reproduction fee schedule cover?

The NARA reproduction fee schedule in § 1258.12 covers reproduction of:

(a) NARA archival records, donated historical materials, Presidential records, and Nixon Presidential historical materials except as otherwise provided in §§ 1258.4 and 1258.6. Some reproduction services listed in § 1258.12 may not be available at all NARA facilities;

(b) Other Federal records stored in NARA Federal records centers, except when NARA and the agency that transferred the records have agreed to apply that agency's fee schedule; and

(c) Records filed with the Office of the Federal Register.

§ 1258.4 What reproductions are not covered by the NARA fee schedule?

The following categories are not covered by the NARA fee schedule in § 1258.12.

(a) Still photography, including aerial film, and oversize maps and drawings. Information on the availability and prices of reproductions of records held in the Special Media Archives Services Division (NWCS), 8601 Adelphi Rd., College Park, MD 20740-6001, and in the Presidential libraries and regional archives (see 36 CFR 1253.3 and 36 CFR 1253.7 for addresses) may be obtained from the unit which has the original records.

(b) Motion picture, sound recording, and video holdings of the National Archives and Presidential libraries. Information on the availability of and prices for reproduction of these materials are available from the Special Media Archives Services Division (NWCS), 8601 Adelphi Rd., Room 3340, College Park, MD 20740-6001, or from the Presidential library which has such materials (see 36 CFR 1253.3 for addresses).

(c) Electronic records. Information on the availability of and prices for duplication are available from the Electronic and Special Media Records Services Division (NWME), 8601 Adelphi Rd., Room 5320, College Park, MD 20740-6001, or from the Presidential library which has such materials (see 36 CFR 1253.3 for addresses).

(d) Reproduction of the following types of records using the specified order form:

Type of record and order form | Price
(1) Passenger arrival lists (order form NATF Form 81) | $17.25
(2) Federal Census requests (order form NATF Form 82) | 17.50
(3) Eastern Cherokee applications to the Court of Claims (order form NATF Form 83) | 17.50
(4) Land entry records (order form NATF 84) | 17.75
(5) Bounty land warrant application files (order form NATF Form 85) | 17.25
(6) Pension files more than 75 years old (order form NATF Form 85)—complete file | 37.00
(7) Pension documents packet (order form NATF Form 85) | 14.75
(8) Military service files more than 75 years old (order form NATF Form 86) | 17.00

(e) National Archives Trust Fund Board publications, including microfilm publications. Prices are available from the Customer Service Center (NWCC2), 8601 Adelphi Rd., Room 1000, College Park, MD 20740-6001.

(f) Reproductions of NARA operational records made in response to FOIA requests under part 1250 of this chapter.

(g) Orders for expedited service (“rush” orders) for reproduction of still pictures and motion picture and video recordings among the holdings of a Presidential library. Orders may be accepted on an expedited basis by the library when the library determines that sufficient personnel are available to handle such orders or that the NARA contractor making the reproduction can provide the service. Rush orders are subject to a surcharge to cover the additional cost of providing expedited service.

(h) Orders requiring additional expense to meet unusual customer specifications such as the use of special techniques to make a photographic copy more legible than the original document, or unusual format or background requirement for negative microfilm. Fees for these orders are computed for each order.

§ 1258.6 When does NARA provide reproductions without charge?

NARA does not charge a fee for reproduction or certification in the instances described in this section, if the reproduction is not a color reproduction. Color reproductions are furnished to the public and the Government only on a fee basis.

(a) When NARA furnishes copies of documents to other elements of the Federal Government. However, a fee may be charged if the appropriate director determines that the service cannot be performed without reimbursement;

(b) When NARA wishes to disseminate information about its activities to the general public through press, radio, television, and newsreel representatives;

(c) When the reproduction is to furnish the donor of a document or other gift with a copy of the original;

(d) When the reproduction is for individuals or associations having official voluntary or cooperative relations with NARA in its work;

(e) When the reproduction is for a foreign, State, or local government or an international agency and furnishing it without charge is an appropriate courtesy;

(f) For records of other Federal agencies in NARA Federal records centers only:

(1) When furnishing the service free conforms to generally established business custom, such as furnishing personal reference data to prospective employers of former Government employees;

(2) When the reproduction of not more than one copy of the document is required to obtain from the Government financial benefits to which the requesting person may be entitled (e.g., veterans or their dependents, employees with workmen's compensation claims, or persons insured by the Government);

(3) When the reproduction of not more than one copy of a hearing or other formal proceeding involving security requirements for Federal employment is requested by a person directly concerned in the hearing or proceeding; and

(4) When the reproduction of not more than one copy of a document is for a person who has been required to furnish a personal document to the Government (e.g., a birth certificate required to be given to an agency where the original cannot be returned to the individual).

§ 1258.8 Who pays to have a copy negative made?

Requests for photographs of materials for which no copy negative is on file are handled as follows:

(a) The customer is charged to make the copy negative, except in cases where NARA wishes to retain the negative for its own use.

(b) When no fee is charged the negative becomes the property of NARA. When a fee is charged the negative becomes the property of the customer.

§ 1258.10 What is NARA's mail order policy?

(a) There is a minimum fee of $10.00 per order for reproductions that are sent by mail to the customer.

(b) Orders to addresses in the United States are sent either first class or UPS depending on the weight of the order and availability of UPS service. When a customer requests special mailing services (such as Express Mail or registered mail) and/or shipment to a foreign address, the cost of the special service and/or additional postage for foreign mail is added to the cost of the reproductions.

§ 1258.12 NARA reproduction fee schedule.

(a) Certification: $6.

(b) Electrostatic copying (in order to preserve certain records which are in poor physical condition, NARA may restrict customers to photographic or microfilm copies instead of electrostatic copies):

Service | Fee
(1) Paper-to-paper copies (up to and including 11 in. by 17 in.) made by the customer on a NARA self-service copier | ¹$0.15
(2) Paper-to-paper copies (up to and including 11 in. by 17 in.) made by NARA staff | ¹0.50
(3) Oversized electrostatic copies | ²2.70
(4) Electrostatic copies (22 in. by 34 in.) | ¹2.70
(5) Microfilm or microfiche to paper copies made by the customer on a NARA self-service copier | ¹0.30
(6) Microfilm or microfiche to paper copies made by NARA staff | ¹1.90
¹ Per copy.
² Per linear foot.

(c) Original negative microfilm (paper-to-microfilm): $0.70 per image.

(d) Self-service video copying in the Motion Picture, Sound and Video Research Room:

Service | Fee
(1) Initial 90-min use of video copying station with 120-minute videocassette | $9.75
(2) Additional 90-minute use of video copying station with no videocassette | 6.25
(3) Blank 120-minute VHS videocassette | 3.50

(e) Self-service Polaroid prints: $5.75 per print.

(f) Unlisted processes: For reproductions not covered by this fee schedule, see also § 1258.4. Fees for other reproduction processes are computed upon request.

§ 1258.14 What is NARA's payment policy?

(a) Form of payment. Fees may be paid in cash, by check or money order made payable to the National Archives Trust Fund, or by selected credit cards. Payments from outside the United States must be made by international money order payable in U.S. dollars or a check drawn on a U.S. bank.

(b) Timing. Fees must be paid in advance except when the appropriate director approves a request for handling them on an account receivable basis. Purchasers with special billing requirements must state them when placing orders and must complete any special forms for NARA approval in advance.

§ 1258.16 Effective date.

The fees in this part are effective on November 13, 2000. If your order was received by NARA before this effective date, we will charge the fees in effect at the time the order was received.

Dated: August 23, 2000.
John W. Carlin,
Archivist of the United States.

[FR Doc. 00-26310 Filed 10-12-00; 8:45 am]

BILLING CODE 7515-01-P